ENVIRONMENTAL PROTECTION AGENCY

[EPA-HQ-OAR-2018-0663; FRL-9986-11-OAR]

Proposed Information Collection Request; Comment Request; Recordkeeping and Reporting Requirements for the Performance-Based Measurement System for Fuels (Renewal)

AGENCY: Environmental Protection Agency (EPA).

ACTION: Notice.

SUMMARY: The Environmental Protection Agency (EPA) is planning to submit an information collection request (ICR), “Recordkeeping and Reporting Requirements for the Performance-based Measurement System for Fuels” (EPA ICR No. 2459.03, OMB Control No. 2060-0692) to the Office of Management and Budget (OMB) for review and approval in accordance with the Paperwork Reduction Act. Before doing so, EPA is soliciting public comments on specific aspects of the proposed information collection as described below. This is a proposed extension of the ICR, which is currently approved through May 31, 2019. An Agency may not conduct or sponsor and a person is not required to respond to a collection of information unless it displays a currently valid OMB control number.

DATES: Comments must be submitted on or before January 4, 2019.

ADDRESSES: Submit your comments, referencing Docket ID No. EPA-HQ-OAR-2018-0663, online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: James W. Caldwell, Compliance Division, Office of Transportation and Air Quality, 6405A, Environmental Protection Agency, 1200 Pennsylvania Ave. NW, Washington, DC 20460; telephone number: 202-343-9303; fax number: 202-343-2802; email address: caldwell.jim@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: EPA regulations at 40 CFR part 80 set standards for certain parameters of gasoline and diesel fuel, such as sulfur content, to control harmful vehicle emissions and protect emission controls. Refiners and importers are required to test for these parameters and report the results to EPA. The regulations at 40 CFR part 80.47, 80.584, and 80.585 (1) identify acceptable test methods for some of the regulated parameters, (2) specify criteria for precision, accuracy, and quality control for the test methods used to measure the regulated parameters (certain test methods in use prior to October 28, 2013 are exempt from some of the criteria), and (3) establish procedures by which a test laboratory can demonstrate that an alternative test method meets the criteria and is thus “qualified” for use. This program for the qualification of test methods is known as the Performance-based Measurement System (PBMS). Test laboratories are required to generate certain records to demonstrate compliance with PBMS program requirements. This ICR covers the recordkeeping and reporting requirements for PBMS records. There are no required forms. Example formats for certain records are at: https://www.epa.gov/fuels-registration-reporting-and-compliance-help/compliance-performance-based-measurement-system.

Form numbers: None.

Respondents/affected entities: Laboratories that test gasoline and diesel fuel.

Respondent's obligation to respond: Mandatory.

Estimated number of respondents: 1,000 (total).

Frequency of response: On occasion, periodically (varies with test method).

Total estimated burden: 26,696 hours (per year). Burden is defined at 5 CFR 1320.03(b).

Total estimated cost: $2,460,454 (per year), includes $0 annualized capital or operation & maintenance costs.

Changes in estimates: There is an increase of 17,198 hours in the total estimated respondent burden compared with the ICR currently approved by OMB. This increase is due to an incorrect estimate of 52 laboratories for the current approval while the actual number should have been near 1,000.

Dated: October 29, 2018.
Byron J. Bunker,
Director, Compliance Division, Office of Transportation and Air Quality, Office of Air and Radiation.

[FR Doc. 2018-24159 Filed 11-2-18; 8:45 am]

BILLING CODE 6560-50-P